DEPARTMENT OF THE INTERIOR

National Park Service

[NPS-WASO-NRNHL-21049; PPWOCRADI0, PCU00RP14.R50000]

National Register of Historic Places; Notification of Pending Nominations and Related Actions

AGENCY: National Park Service, Interior.

ACTION: Notice.

SUMMARY: The National Park Service is soliciting comments on the significance of properties nominated before April 30, 2016, for listing or related actions in the National Register of Historic Places.

DATES: Comments should be submitted by June 9, 2016.

ADDRESSES: Comments may be sent via U.S. Postal Service to the National Register of Historic Places, National Park Service, 1849 C St. NW., MS 2280, Washington, DC 20240; by all other carriers, National Register of Historic Places, National Park Service, 1201 Eye St. NW., 8th floor, Washington, DC 20005; or by fax, 202-371-6447.

SUPPLEMENTARY INFORMATION: The properties listed in this notice are being considered for listing or related actions in the National Register of Historic Places. Nominations for their consideration were received by the National Park Service before April 30, 2016. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

CALIFORNIA

Los Angeles County

Rockhaven Sanitarium Historic District, 2713 Honolulu Ave. bounded by Pleasure Way, Hermosa & Honolulu Aves., Glendale, 16000355

Napa County

Yountville Grammar School, 6550 Yount St., Yountville, 16000356

Riverside County

First Church of Christ, Scientist, (Architecture of Albert Frey MPS) 605 S. Riverside Dr., Palm Springs, 16000357

San Francisco County

USS CONESTOGA (shipwreck and remains), Address Restricted, San Francisco, 16000358

FLORIDA

Miami-Dade County

Ace Theatre, 3664 Grand Ave., Miami, 16000359

Palm Beach County

West Palm Beach Fishing Club, 201 5th St., West Palm Beach, 16000360

St. Johns County

Fountain of Youth Archeological Park, 11 Magnolia Ave., St. Augustine, 16000361

GUAM

Guam County

Manenggon Concentration Camp, Address Restricted, Yona Municipality, 16000362

IOWA

Polk County

Apperson—Iowa Motor Car Company Building, 1420 Locust St., Des Moines, 16000363

Jones, G.W., Building, 1430 Locust St., Des Moines, 16000364

Wapello County

Greater Second Street Historic District, 201-315 E. 2nd, 116 N. Green, 109 S. Green & 106-112 N. Market, Ottumwa, 16000365

MISSOURI

Barry County

McMurtry Spring and Trail of Tears Roadbed Segment, (Cherokee Trail of Tears in Missouri MPS) Address Restricted, Cassville, 16000366

NEW YORK

Rensselaer County

Central Troy Historic District (Boundary Increase), Adams, 1st, 4th, Washington & Hill Sts., Franklin Pl., 5th Ave., Troy, 16000367

NORTH DAKOTA

McIntosh County

Zeeland Hall, (Federal Relief Construction in North Dakota, 1931-1943, MPS) 211 S. Main Ave., Zeeland, 16000368

OKLAHOMA

Atoka County

Dunbar School, NE. corner of OK 3 and S. Dunbar St., Atoka, 16000369

Garfield County

Carrier Congregational Church, 204 N. 5th St., Carrier, 16000370

Marshall County

Oakland School, NW. corner of Fern & N. 8th Sts., Oakland, 16000373

Oklahoma County

Edmond Ice Company, 101-109 W. 2nd St., Edmond, 16000371

Electric Transformer House, 2412 N. Olie Ave., Oklahoma City, 16000372

Sunshine Cleaners, 1002 NW. 1st St., Oklahoma City, 16000374

Tiffany House, 5505 N. Brookline Ave., Oklahoma City, 16000375

Texas County

Hotel Dale, 118 NW. 6th St., Guymon, 16000376

WISCONSIN

Iowa County

Wyoming Valley School, 6306 WI 23, Wyoming, 16000377

Juneau County

Bierbaurer, Henry and Barbara, House, 970 S. Monroe St., New Lisbon, 16000379

Milwaukee County

Peck, George W., Row House, 1620-1630 N. Farwell Ave., Milwaukee, 16000378

A request to move has been received for the following resource:

IOWA

Mitchell County

Cedar Valley Seminary, N. 6th and Mechanic Sts., Osage, 77000541

Authority: 60.13 of 36 CFR part 60.

Dated: May 6, 2016.
Roger Reed,
Acting Chief, National Register of Historic Places/National Historic Landmarks Program.

[FR Doc. 2016-12269 Filed 5-24-16; 8:45 am]

BILLING CODE 4312-51-P